DEPARTMENT OF ENERGY

Federal Energy Regulatory Commission

[Docket No. IC01-523-001, FERC-523]

Information Collection Submitted for Review and Request for Comments

May 22, 2001.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of section 3507 of the Paperwork Reduction Act of 1995 (Public Law 104-13). Any interested person may file comments on the collection of information directly with OMB and should address a copy of those comments to the Commission as explained below. The Commission received no comments in response to an earlier Federal Register notice of February 1, 2001 (66 FR 8577-85-78) and has made this notation in its submission to OMB.

DATES: Comments regarding this collection of information are best assured of having their full effect if received within 30 days of this notification.

ADDRESSES: Address comments to Office of Management and Budget, Office of Information and Regulatory Affairs, Attention: Federal Energy Regulatory Commission, Desk Officer, 726 Jackson Place, NW., Washington, DC 20503. A copy of the comments should also be sent to Federal Energy Regulatory Commission, Office of the Chief Information Officer, Attention: Mr. Michael Miller, 888 First Street NE, Washington, D.C. 20426.

FOR FURTHER INFORMATION CONTACT: Michael Miller may be reached by telephone at (202) 208-1415, by fax at (202) 208-2425, and by e-mail at mike.miller@ferc.fed.us.

SUPPLEMENTARY INFORMATION:

Description

The energy information collection submitted to OMB for review contains:

1. Collection of Information: FERC-523 “Securities Authorization”.

2. Sponsor: Federal Energy Regulatory Commission.

3. Control No: OMB No. 1902-0043. The Commission is now requesting that OMB approve a three-year extension of these mandatory information collection requirements.

4. Necessity of Collection of Information: Submission of the information is necessary to enable the Commission to carry out its responsibilities in implementing the statutory provisions of sections 19, 20 and 204 of the Federal Power Act (FPA). Under the FPA, a public utility or licensee must obtain Commission authorization for the issuance of securities or the assumption of liabilities pursuant to the sections identified above. Public utilities or licensees are not permitted to issue securities or assume any obligations or liabilities as guarantor, indorser, or surety or otherwise in respect of any other security of another person, unless and until, they have submitted an application to the Commission who in turn, issues an order authorizing assumption of the liability or issuance of the securities. The information filed in applications to the Commission is used to determine the Commission's acceptance and/or rejection for granting authorization for either issuances of securities or assumptions of obligations or liabilities to licensees and public utilities. The Commission implements these filing requirements in the Code of Federal Regulations (CFR) under 18 CFR parts 20, 34, 131.43, 131.50.

5. Respondent Description: The respondent universe currently comprises on average, 90 respondents, an adjustment of 30 respondents from the Commission's initial notice.

6. Estimated Burden: 9,900 total burden hours, 90 respondents, 90 response annually (1 response per respondent), 110 hours per response (average).

7. Estimated Cost Burden to Respondents: 9,900 hours÷2,080 hours per year×$97,534 per year=$464,224.

Statutory Authority: Sections 19, 20 and 204 of the Federal Power Act (FPA), 16 U.S.C. 792-828c.

David P. Boergers,
Secretary.

[FR Doc. 01-13356 Filed 5-25-01; 8:45 am]

BILLING CODE 6717-01-M